ENVIRONMENTAL PROTECTION AGENCY

[FRL-9160-6]

Science Advisory Board Staff Office; Request for Nominations of Experts to Provide Scientific and Technical Advice Related to the Gulf of Mexico Oil Spill

AGENCY: Environmental Protection Agency (EPA).

ACTION: Notice of request for nominations.

SUMMARY: The Science Advisory Board (SAB) Staff Office is requesting public nominations of experts to serve on potential workgroups or panels to advise the Agency on scientific and technical issues related to the Gulf of Mexico Oil Spill.

DATES: Nominations should be submitted by June 24, 2010 per instructions below.

FOR FURTHER INFORMATION CONTACT: Any member of the public wishing further information regarding this Request for Nominations may contact Ms. Stephanie Sanzone, Designated Federal Officer (DFO), EPA Science Advisory Board (1400F), 1200 Pennsylvania Avenue, NW., Washington, DC 20460; via telephone/voice mail (202) 343-9697; by fax at (202) 233-0643; or via e-mail at sanzone.stephanie@epa.gov. General information concerning the EPA Science Advisory Board can be found on the EPA SAB Web site at http://www.epa.gov/sab.

SUPPLEMENTARY INFORMATION: The SAB was established by 42 U.S.C. 4365 to provide independent scientific and technical advice, consultation, and recommendations to the EPA Administrator on the technical basis for Agency positions and regulations. As announced previously Federal Register, May 19, 2010, Volume 75, Number 96, Page 28009), the SAB may be asked to provide advice on a range of scientific and technical issues related to the Gulf of Mexico oil spill. To expand the pool of experts available to serve as SAB consultants, the SAB Staff Office is seeking public nominations of nationally recognized experts for potential service on SAB workgroups, panels or committees to provide advice on this critical matter. The advice will assist the Agency in developing and implementing timely and scientifically appropriate responses to oil spill contamination in the Gulf of Mexico and along the Gulf Coast. All SAB advisory activities generally comply with the provisions of the Federal Advisory Committee Act (FACA). As announced previously (Federal Register, May 19, 2010, Volume 75, Number 96, Page 28009), critical mission and schedule requirements may preclude the full 15 days notice in the Federal Register prior to advisory meetings, pursuant to the final rule on Federal Advisory Committee Management codified at 41 CFR 102-3.150. However, information on Gulf of Mexico oil spill meetings, as well as experts selected for service will be posted on the SAB Web site at http://www.epa.gov/sab as they are available. Nominees will be invited to serve based on: Scientific and technical expertise, knowledge, and experience; availability and willingness to serve; absence of financial conflicts of interest; and scientific credibility and impartiality.

Request for Nominations: The SAB Staff Office is requesting nominations of nationally and internationally recognized experts with demonstrated research or operational experience assessing the environmental impacts and associated mitigation of impacts due to oil spills, oil products, oil constituents, and dispersants in air and water (including wetlands) media. Appropriate expertise may include one or more of the following disciplines: Chemistry; fate, transport and exposure assessment; toxicology; public health; ecology; ecotoxicology; risk assessment; engineering; and economics.

Process and Deadline for Submitting Nominations: Any interested person or organization may nominate qualified individuals for possible service in the areas of expertise described above. Self-nominations are encouraged. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested.

EPA's SAB Staff Office requests: contact information about the person making the nomination; contact information about the nominee; the disciplinary and specific areas of expertise of the nominee; the nominee's curriculum vitae; sources of recent grants and/or contracts; and a biographical sketch of the nominee indicating current position, educational background, research activities, and recent service on other national advisory committees or national professional organizations.

Persons having questions about the nomination procedures, or who are unable to submit nominations through the SAB Web site, should contact Ms. Sanzone, DFO as indicated above in this notice. Nominations should be submitted in time to arrive no later than June 24, 2010. EPA values and welcomes diversity. In an effort to obtain nominations of diverse candidates, EPA encourages nominations of women and men of all racial and ethnic groups.

The EPA SAB Staff Office will acknowledge receipt of nominations. The names and biosketches of qualified nominees identified by respondents to the Federal Register notice and additional experts identified by the SAB Staff will be posted on the SAB Web site at http://www.epa.gov/sab. Public comments on this List of Candidates will be accepted for 15 calendar days. The public will be requested to provide relevant information or other documentation on nominees that the SAB Staff Office should consider in evaluating candidates.

For the EPA SAB Staff Office, a balanced subcommittee or review panel includes candidates who possess the necessary domains of knowledge, the relevant scientific perspectives (which, among other factors, may be influenced by work history and affiliation), and the collective breadth of experience to adequately address the charge. In establishing workgroups, the SAB Staff Office will consider information provided by the candidates themselves, and background information independently gathered by the SAB Staff Office. Selection criteria to be used for panel membership include: (a) Scientific and/or technical expertise, knowledge and experience (primary factors); (b) availability and willingness to serve; (c) absence of financial conflicts of interest; (d) absence of an appearance of a lack of impartiality; (e) skills working in advisory committees and panels for the Panel as a whole, and (f) diversity of and balance among scientific expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: June 1, 2010.
Anthony F. Maciorowski,
Deputy Director, EPA Science Advisory Board Staff Office.

[FR Doc. 2010-13858 Filed 6-8-10; 8:45 am]

BILLING CODE 6560-50-P